POSTAL REGULATORY COMMISSION

39 CFR Chapter III

[Docket No. RM2026-3; Order No. 9467]

RIN 3211-AA41

Rules of Organization, Practice, and Procedure

AGENCY: Postal Regulatory Commission.

ACTION: Notice of proposed rulemaking.

SUMMARY: The Notice of Proposed Rulemaking amends certain Commission rules for agency organization, as well as rules of practice and procedure. These amendments are intended to improve transparency of current Commission structure and organizational functions. These amendments also promote efficiency for several internal Commission processes. This document informs the public of the filing, invites public comment, and takes other administrative steps.

DATES: Comments are due: April 3, 2026.

ADDRESSES: Submit comments electronically via the Commission's Filing Online system at https://www.prc.gov. Those who cannot submit comments electronically should contact the person identified in the FOR FURTHER INFORMATION CONTACT section by telephone for advice on filing alternatives. The Rule Summary can be found on the Commission's Rule Summary Page at https://www.prc.gov/rule-summary-page.

FOR FURTHER INFORMATION CONTACT: David A. Trissell, General Counsel, at 202-789-6820.

SUPPLEMENTARY INFORMATION:

Table of Contents

I. Background

II. Basis of Proposed Rules

III. Proposed Rules

I. Background

In accordance with 5 U.S.C. 552,¹ Commission regulations describe, among other things, the agency's central organization, as well as “the general course and method by which its functions are channeled and determined, including the nature and requirements of all formal and informal procedures available.” See 39 CFR part 3000; see also 5 U.S.C. 552(a)(1)(A) and (B). Thus, revisions to agency regulations are necessary when an agency's structure or its organizational functions are modified internally or when other statutory changes are enacted that require revisions to agency regulations.

¹ Section 552 of the United States Code requires agencies to, among other things, “separately state and currently publish in the Federal Register for the guidance of the public” information such as the “descriptions of its central [ ] organization,” as well as “statements of the general course and method by which its functions are channeled and determined, including the nature and requirements of all formal and informal procedures available.” See 5 U.S.C. 552(a)(1)(A) and (a)(1)(B).

In addition, the Commission seeks to end its codification of both the Market Dominant and Competitive product lists. These product lists currently appear at 39 CFR part 3040, Appendix A and B to subpart A. However, Postal Accountability and Enhancement Act (PAEA),² does not require the codification of the product lists in the CFR, it only requires publication of the product lists in the Federal Register when the Commission revises those lists. The Commission also proposes revisions to the product list regulations that better reflect the Commission's process related to these updates.

² Public Law 109-435, 120 Stat. 3198, 3207 (2006) (codifying, among other things, 39 U.S.C. 3633(a)(3)).

II. Basis of Proposed Rules

A. Amendments Related to Organization Structure and Functions

The proposed rules reflect the creation of the new Office of Budget and Finance (OBF), which was created to better align with federal agency best practices in organizing finance budget operations, including having a more appropriate separation of agency functions. In addition, to better reflect that certain filings are directed by and performed on behalf of the Commission or the Chairman, the Commission proposes to replace “the Secretary” with “the Commission” or “the Chairman” in discrete proposed rule amendments.

Moreover, consistent with statutory updates, the proposal revises Commission regulations regarding the Office of Inspector General (OIG). The PSRA eliminated the requirement of a separate Commission OIG and effectively merged the legacy Commission OIG with the Postal Service OIG.³ Accordingly, these proposed regulatory changes conform Commission rules to the updated statutory framework.

³ See generally PSRA, section 209(a)(1) and 209(a)(2)(A); see also 5 U.S.C. app. 3, § 8G.

B. Amendments Related to Internal Commission Processes

The PRA required the establishment of an MCS.⁴ In Docket No. RM85-1, the Commission codified the MCS in 39 CFR part 3001, Appendix A to Subpart C to make the MCS more readily available to interested persons.⁵ However, no provision of the PRA required codification of the MCS as part of the CFR. It was an effort by the Commission to make the MCS accessible at a time when information was not readily available on a Commission website or the internet in general. Later, the PAEA bifurcated all Postal Service products into separate categories labeled Market Dominant and Competitive, originally listed at 39 U.S.C. 3621 and 3631, respectively. The PAEA required the development of the product lists and Federal Register publication whenever the Commission changes either product list. See 39 U.S.C. 3642. The PAEA also does not require the codification of the product lists in the CFR. The only restrictions imposed are that the Notice of Product List Update must be published in the Federal Register, which must include: (1) the revised product list(s), and (2) how and when the previous list is superseded. See 39 U.S.C. 3642(d)(2).

⁴ Postal Reorganization Act, Public Law 91-375, 84 Stat. 719, 761 (1970), section 3623.

⁵ See generally Docket No. RM85-1, Notice, May 20, 1985 (Docket No. RM85-1 Notice); Docket No. RM85-1, Order Adopting Final Rule, June 28, 1985 (Order No. 614) (“The Commission has decided to make the Domestic Mail Classification Schedule (DMCS) more readily available to interested persons by publishing it as Appendix A to Subpart C of Part 3001 of the Commission's rules of practice and procedure.” Id. at 1.

However, currently, each notice includes three items: (1) the revised product list(s), which include amendatory language necessary to update the CFR, (2) an indication of how and when the previous list is superseded, and (3) lists of every product addition and/or removal.⁶ Thus, each Commission notice is an unnecessary action that contains information not required by statute and costly to the Commission. First, the codification of each product list as an appendix to 39 CFR part 3040, subpart A is not required by statute. This agency-imposed regulation, stemming from the PRA-era, when access to information related to Postal Service offerings was sparse and unclear. Now, the Commission maintains an MCS on its website, which includes each product list and is easily accessible. Thus, codification of the product lists is unnecessary. Second, including a separate list of product additions and removals in each publication is duplicative, making publications longer, and thus more costly to the Commission. In recent years, Postal Service product changes have increased significantly, and burdensome publication costs and challenging resource burdens have only continued to impede product list updates.⁷ To reduce these burdens that the excessive information generates, the Commission proposes to modify its Notice of Product List Update publication to include information that strictly adheres to the requirements of 39 U.S.C. 3642(d)(2).

⁶ See, e.g., Docket No. RM2020-8, Notice of Update to Product Lists, February 9, 2024.

⁷ Between FY 2023 and FY 2024, the number of approved NSAs increased from 280 to 706, and in FY 2025, the Commission approved 1,719 NSAs. See Negotiated Service Agreement Dashboard, available at: https://app.powerbigov.us/view?r=eyJrIjoiOGViZjJkOTAtMDE0Zi00M2Y0LTkxMzUtZDMwY2QzZGZmMDBhIiwidCI6IjljZDM1YmZmLTExNGItNDIwMS1iYTNhLWZkYjJlMDM3MzVjOSJ9. In addition, the Postal Service has begun issuing notices of NSA terminations in bulk. See USPS Notice of Termination of 341 Negotiated Service Agreements, December 9, 2025. These occurrences illustrate large impacts on the product lists and time-consuming revisions that they ultimately require.

Additionally, the Administrative Procedure Act, Public Law 79-404, 60 Stat. 237 (1946) (APA), requires certain agency documents be published in the Federal Register. 5 U.S.C. 553 and 554. Generally, documents submitted to the Federal Register must include information used to develop the action, detail agency choices and reasoning, cite to important data, identify the applicable legal authority and, in the case of rulemakings, include affected regulatory text.⁸

⁸ See generally https://www.federalregister.gov/; see also https://uploads.federalregister.gov/uploads/2013/09/The-Rulemaking-Process.pdf.

For many years, a Commission's Federal Register submission and the Commission document prompting the Federal Register submission would match verbatim. However, Commission rulemaking proceedings can involve dense records and analysis, oftentimes containing in-depth discussion of all issues presented, even issues that may be outside the scope of that particular proceeding. Thus, Commission Orders often have information above and beyond the information required by the Federal Register.

Therefore, the Commission is updating applicable regulations that clarify documents sent to the Federal Register may be summarized at the Commission's discretion, in compliance with all Federal Register requirements.

III. Proposed Rules

List of Subjects

39 CFR Part 3000

Organization and functions, Seals and insignia.

39 CFR Part 3010

Administrative practice and procedure, Confidential business information, Freedom of information, Sunshine Act.

39 CFR Part 3013

Administrative practice and procedure, Confidential business information, Postal Service, Reporting and recordkeeping requirements.

39 CFR Part 3020

Administrative practice and procedure, Postal Service.

39 CFR Part 3030

Administrative practice and procedure, Fees, Postal Service.

39 CFR Part 3040

Administrative practice and procedure, Foreign relations, Postal Service.

39 CFR Parts 3041 and 3050

Administrative practice and procedure, Postal Service, Reporting and recordkeeping requirements.

39 CFR Part 3045

Administrative practice and procedure, Postal Service.

For the reasons stated in the preamble, the Commission proposes to amend 39 CFR chapter III as set forth below:

PART 3000—THE COMMISSION AND ITS OFFICES

1. The authority citation for part 3000 is revised to read as follows:

Authority: 39 U.S.C. 503; 5 U.S.C. 552; 5 U.S.C. app. 3, 5, 8G.

2. Amend § 3000.111 by revising paragraphs (b) and (e) to read as follows:

§ 3000.111 The Office of Secretary and Administration.

* * * * *

(b) The Office of Secretary and Administration is responsible for the Commission's strategic planning and serves as the point of contact for all Commission audits.

* * * * *

(e) The Office of Secretary and Administration is responsible for managing the Commission's operational and administrative functions, including the Commission's facilities and infrastructure. In this role, the Office of Secretary and Administration manages facility security; provides information technology, cybersecurity, and other support services essential to the efficient and effective conduct of operations.

3. Add § 3000.116 to read as follows:

§ 3000.116 The Inspector General of the Postal Service.

(a) The Inspector General of the Postal Service shall function as the Inspector General for the Commission and shall have equal responsibility over the Postal Service and the Commission in accordance with 5 U.S.C. app. 3, 8G and 39 CFR Chapter I, subpart D of this title.

(b) The Governors and the members of the Commission shall appoint, by a favorable vote of a majority of the Governors in office and of a majority of the members of the Commission in office, the Inspector General. The Inspector General may be removed for cause with the written concurrence of at least 7 Governors and 3 members of the Commission.

(c) The Office of Inspector General shall comply with and adhere to the procedures governing the release of information maintained by the Commission as set forth in Part 3006 and related provisions of these regulations to the extent such procedures do not conflict with any provision in this part.

(d) Commission records in the custody of the Office of Inspector General that contain proprietary information will not be released by the Inspector General without consultation with the appropriate Commission official responsible for the record.

(e) All Commission employees shall cooperate with all audits, reviews, and investigations conducted by the Office of Inspector General. Deliberately submitting information known to be false or misleading to the Office of Inspector General or failing to cooperate with all audits, reviews, and investigations conducted by the Office of Inspector General may be grounds for disciplinary or other legal action.

(f) Any employee who has authority to take, direct another to take, recommend or approve any personnel action shall not retaliate against any employee as a reprisal for cooperating and assisting with any Office of Inspector General audit, review, or investigation (including reporting facts or information to the Office of Inspector General that leads to any audit, review, or investigation).

4. Add § 3000.117 to read as follows:

§ 3000.117 The Office of Budget and Finance.

(a) The Office of Budget and Finance is responsible for ensuring the strategic and operational planning, establishment, execution, monitoring, analysis and presentation of the Commission's budget.

(b) The Office of Budget and Finance manages budget planning. In this role, the Office of Budget and Finance determines future funding needs based on the Commission's strategic and operational plans, within fiscal constraints.

(c) The Office of Budget and Finance is responsible for budget establishment and execution, which involves the distribution and management of funds to accomplish the Commission's mission. In this role, the Office of Budget and Finance develops and enforces fiscal policies and guidelines in accordance with applicable regulations and laws for Commission fiscal operations. The Office of Budget and Finance ensures recognition of Commission approved requirements and executes according to established policies, guidelines, and financial targets.

(d) The Office of Budget and Finance manages accounting and performs financial management activities. In this role, the Office of Budget and Finance ensures accuracy, compliance, and timely payments, including those related to the payroll. This role includes personnel compensation management and monitoring, oversight and execution of funding requests, invoice and reimbursement processing, travel processing and management, expenditure tracking and reconciliation, and contract execution and management.

(e) The Office of Budget and Finance is responsible for the monitoring and presentation of budget data. In this role, the Office of Budget and Finance tracks, monitors, performs analysis on, and reports on the usage of fiscal resources that support the Commission's mission. This role also includes ensuring alignment of budget data with the Commission's strategic and operational goals and objectives as well as the intent of the Commission Chairman and Commissioners.

PART 3010—RULES OF PRACTICE AND PROCEDURE

5. The authority citation for part 3010 continues to read as follows:

Authority: 39 U.S.C. 404(d); 503; 504; 3661.

6. Amend § 3010.102 by revising paragraph (e) to read as follows:

§ 3010.102 Commission dockets.

* * * * *

(e) The Secretary's assignment of a docket designation does not, by itself, establish a docket or initiate a proceeding. A docket is formally established and proceedings initiated only by the issuance of a Commission notice or order except for certain negotiated service agreements for which the authority to establish a docket and initiate a proceeding by issuance of a notice has been delegated to the Office of the General Counsel.

* * * * *

7. Amend § 3010.106 by revising paragraph (b) to read as follows:

§ 3010.106 Presiding officers.

* * * * *

(b) Notice of designation. The Chairman shall issue a notice of any decision to designate a presiding officer. The notice shall identify the presiding officer and the date of appointment. Any expansion or limitation on the presiding officer's authority, or specific direction to a presiding officer (such as specific direction to issue an intermediate decision for the Commission's consideration) not specified in this section shall be included in the notice.

* * * * *

8. Amend § 3010.142 by revising paragraph (c) to read as follows:

§ 3010.142 Parties to hearings on the record.

* * * * *

(c) Form and time of filing. Notices of intervention shall be filed no later than the date fixed for such filing by the Commission, unless for good cause shown, the Commission authorizes a late filing. Without a showing for good cause, late intervenors shall be subject to and may not challenge decisions by the Commission or presiding officer made prior to acceptance of the request for late intervention.

* * * * *

9. Amend § 3010.152 by revising paragraph (a) to read as follows:

§ 3010.152 Notices initiating dockets for consideration of negotiated service agreements.

(a) The Office of the General Counsel shall issue a notice to initiate a docket for each request that proposes the addition or removal of a negotiated service agreement from the market dominant or the competitive product list, or the modification of an existing product currently appearing on the market dominant or the competitive product list. Multiple requests may be combined into a single notice.

* * * * *

PART 3013—PROCEDURES FOR COMPELLING PRODUCTION OF INFORMATION BY THE POSTAL SERVICE

10. The authority citation for part 3013 continues to read as follows:

Authority: 39 U.S.C. 503; 504; 3651(c); 3652(d).

11. Amend § 3013.13 by revising paragraph (b)(1) to read as follows:

§ 3013.13 Subpoenas issued in response to a third-party request.

* * * * *

(b) * * *

(1) A request for the issuance of a subpoena shall be made by motion as provided by § 3010.160 of this chapter. A copy of the request shall be served upon the Postal Service as provided by § 3010.127 of this chapter and by forwarding a copy to the General Counsel of the Postal Service, or such other person authorized to receive process by personal service, by Express Mail or Priority Mail, or by First-Class Mail, Return Receipt requested. The Postal Service shall transmit a copy of the request to any covered person that it deems likely to be affected by the request and shall provide the person requesting the subpoena with the name, business address and business phone number of the persons to whom the request has been transmitted. Proof of service of the request shall be filed with the Secretary by the person requesting the subpoena. The Commission shall issue a notice of the filing of proof of service and the deadline for filing answers to the request.

* * * * *

PART 3020—RULES APPLICABLE TO POSTAL SERVICE REQUESTS FOR CHANGES IN THE NATURE OF POSTAL SERVICES

12. The authority citation for part 3020 continues to read as follows:

Authority: 39 U.S.C. 404(d); 503; 504; 3661.

13. Revise § 3020.112 to read as follows:

§ 3020.112 Filing of formal requests.

Whenever the Postal Service determines to request that the Commission issue an advisory opinion on a proposed change in the nature of postal services subject to this subpart, the Postal Service shall file with the Commission a formal request for such an opinion in accordance with the requirements of subpart B to part 3010 of this chapter and § 3020.113. The request shall be filed not less than 90 days before the proposed effective date of the change in the nature of postal services involved. Within five days after the Postal Service has filed a formal request for an advisory opinion in accordance with this section, the Commission shall lodge a notice thereof for publication in the Federal Register.

PART 3030—REGULATION OF RATES FOR MARKET DOMINANT PRODUCTS

14. The authority citation for part 3030 continues to read as follows:

Authority: 39 U.S.C. 503; 3622.

15. Amend § 3030.263 by revising paragraph (a) and adding paragraph (h) to read as follows:

§ 3030.263 Dockets and notice.

(a) The Commission will establish a docket for each request to adjust rates due to extraordinary or exceptional circumstances and post the filing on its website at http://www.prc.gov. The notice shall include the items specified in paragraphs (b) through (g) of this section.

* * * * *

(h) The notice, or an abstract thereof, shall be published in the Federal Register.

PART 3040—REGULATION OF RATES FOR MARKET DOMINANT PRODUCTS

16. The authority citation for part 3030 continues to read as follows:

Authority: 39 U.S.C. 503; 3622; 3631; 3642; 3682.

§ 3040.101 Applicability.

17. Revise § 3040.101 to read as follows:

(a) The rules in this part require the Commission to establish and maintain a Mail Classification Schedule.

(b) The Mail Classification Schedule shall provide lists of Postal Service products, as well as current price and classification information applicable to the products appearing on the market dominant and competitive product lists.

(c) Once established the Mail Classification Schedule and the product lists may be modified subject to the procedures specified in this part.

(d) Modification of the competitive product list to add a competitive negotiated service agreement is not governed by this part but is governed by part 3041 of this chapter. The rules in part 3041 of this chapter regarding removal of a negotiated service agreement from the competitive product list supersede any conflicting rules in this part.

18. Revise § 3040.102 to read as follows:

§ 3040.102 Product lists.

(a) The Commission shall maintain the product lists as part of the Mail Classification Schedule on its website at http://www.prc.gov. Copies of the Mail Classification Schedule, including each product list, shall be made available, upon request, during regular business hours for reference and public inspection at the Postal Regulatory Commission located at 901 New York Avenue NW, Suite 200, Washington, DC 20268-0001.

(b) The product lists shall categorize postal products as either market dominant or competitive. As established, the market dominant and competitive product lists shall be consistent with the market dominant products identified in 39 U.S.C. 3621(a) and the competitive products identified in 39 U.S.C. 3631(a). The market dominant and competitive product lists shall also include products identified as market tests pursuant to 39 U.S.C. 3641 and nonpostal pursuant to 39 U.S.C. 404(e).

19. Revise § 3040.103 to read as follows:

§ 3040.103 Notice of product list change.

(a) Whenever the Commission issues a final order that modifies the list of products in the market dominant category or the competitive category, it shall revise the lists of products maintained as part of the Mail Classification Schedule within 6 months of the issue date of the applicable final order that affects the change.

(b) Notice of the revised lists of products shall be submitted to the Federal Register for publication within 6 months of the issue date of the applicable final order that affects the change.

(c) Modifications pending publication in the Federal Register are effective immediately upon written direction from the Commission.

(d) The Federal Register document shall:

(1) Include the revised lists of products; and

(2) Indicate how and when any previous product lists are superseded.

20. Amend § 3040.104, by revising paragraphs (a), (b)(2)(i) and (b)(3)(i) to read as follows:

§ 3040.104 Mail Classification Schedule.

(a) The Commission shall publish a Mail Classification Schedule (including both current and previous versions) on its website at http://www.prc.gov. Copies of the Mail Classification Schedule also shall be available, upon request, during regular business hours for reference and public inspection at the Postal Regulatory Commission located at 901 New York Avenue NW, Suite 200, Washington, DC 20268-0001.

(b) * * *

(2) * * *

(i) The market dominant product list; and

* * * * *

(3) * * *

(i) The competitive product list; and

* * * * *

21. Amend § 3040.105, by revising paragraph (b) to read as follows:

§ 3040.105 Modification to the Mail Classification Schedule.

* * * * *

(b) Modifications to the Mail Classification Schedule shall be incorporated within 6 months of the issue date of the final order.

* * * * *

Appendix A to Subpart A of Part 3040—Market Dominant Product List [Removed]

22. Remove Appendix A to Subpart A of Part 3040.

Appendix B to Subpart A of Part 3040—Competitive Product List [Removed]

23. Remove Appendix B to Subpart A of Part 3040.

24. Revise § 3040.133 to read as follows:

§ 3040.133 Docket and notice.

(a) The Commission will establish a docket for each request to modify the market dominant list or the competitive product list and post the filing on its website at http://www.prc.gov. The notice shall include:

(1) The general nature of the proceeding;

(2) A reference to legal authority to which the proceeding is to be conducted;

(3) A concise description of the proposals for changes in the Mail Classification Schedule;

(4) The identification of an officer of the Commission to represent the interests of the general public in the docket;

(5) A specified period for public comment; and

(6) Such other information as the Commission deems appropriate.

(b) The notice, or an abstract thereof, shall be published in the Federal Register.

25. Revise § 3040.153 to read as follows:

§ 3040.153 Docket and notice.

(a) The Commission will establish a docket for each request to modify the market dominant list or the competitive product list and post the filing on its website at http://www.prc.gov. The notice shall include:

(1) The general nature of the proceeding;

(2) A reference to legal authority to which the proceeding is to be conducted;

(3) A concise description of the proposals for changes in the Mail Classification Schedule;

(4) The identification of an officer of the Commission to represent the interests of the general public in the docket;

(5) A specified period for public comment; and

(6) Such other information as the Commission deems appropriate.

(b) The notice, or an abstract thereof, shall be published in the Federal Register.

26. Revise § 3040.173 to read as follows:

§ 3040.173 Docket and notice.

(a) The Commission will establish a docket for each request to modify the market dominant list or the competitive product list and post the filing on its website at http://www.prc.gov. The notice shall include:

(1) The general nature of the proceeding;

(2) A reference to legal authority to which the proceeding is to be conducted;

(3) A concise description of the proposals for changes in the Mail Classification Schedule;

(4) The identification of an officer of the Commission to represent the interests of the general public in the docket;

(5) A specified period for public comment; and

(6) Such other information as the Commission deems appropriate.

(b) The notice, or an abstract thereof, shall be published in the Federal Register.

27. Amend § 3040.182 by revising paragraph (a) and adding paragraph (f) to read as follows:

§ 3040.182 Docket and notice of material changes to product descriptions.

(a) The Commission shall take the actions identified in paragraphs (b) through (f) of this section.

* * * * *

(f) Publish the notice, or an abstract thereof, in the Federal Register.

28. Amend § 3040.191 by revising paragraph (a) and adding paragraph (f) to read as follows:

§ 3040.191 Docket and notice of minor corrections to product descriptions.

(a) The Commission shall take the actions identified in paragraphs (b) through (f) of this section.

* * * * *

(f) Publish the notice, or an abstract thereof, in the Federal Register.

29. Amend § 3040.211 by:

a. Revising paragraph (b);

b. Adding new paragraph (c); and

c. Redesignating paragraphs (c) and (d) as paragraphs (d) and (e).

The addition and revisions read as follows:

§ 3040.211 Limitations applicable to market dominant mail matter.

* * * * *

(b) The Commission shall provide notice of the proposed update and seek public comment on whether the proposed update is in accordance with the policies and the applicable criteria of chapter 36 of title 39 of the United States Code.

(c) The notice, or an abstract thereof, shall be published in the Federal Register.

* * * * *

PART 3041—COMPETITIVE NEGOTIATED SERVICE AGREEMENTS

30. The authority citation for part 3041 continues to read as follows:

Authority: 39 U.S.C. 503; 3633.

31. Amend § 3041.405 by revising paragraph (b) to read as follows:

§ 3041.405 Docket and notice.

* * * * *

(b) The Commission will promptly publish the notice, or an abstract thereof, in the Federal Register, and post the filing on its website at http://www.prc.gov.

* * * * *

PART 3045—RULES FOR MARKET TESTS OF EXPERIMENTAL PRODUCTS

32. The authority citation for part 3045 continues to read as follows:

Authority: 39 U.S.C. 503; 3641.

* * * * *

33. Amend § 3041.405 by revising paragraphs (a) and (b) to read as follows:

§ 3041.405 Review

(a) The Commission will establish a docket for each market test initiated under this part and post the filing on its website at http://www.prc.gov. The notice shall:

* * * * *

(b) The notice, or an abstract thereof, shall be published in the Federal Register.

PART 3050—PERIODIC REPORTING

34. The authority citation for part 3045 continues to read as follows:

Authority: 39 U.S.C. 503; 3651; 3652; 3653.

35. Amend § 3050.11 by revising paragraphs (d)(1) to read as follows:

§ 3050.11 Proposals to change an accepted analytical principle applies in the Postal Service's annual period reports to the Commission.

* * * * *

(d) * * *

(1) After the conclusion of discovery procedures, if any, the Commission shall determine whether to issue a notice of proposed rulemaking based on the petition and the supporting material received. Such notice shall be evaluated by procedures that are consistent with 5 U.S.C. 553. The notice, or an abstract thereof, shall be published in the Federal Register. Interested parties will be afforded an opportunity to present written comments and reply comments, and, if the Commission so orders, to present oral comments as well.

* * * * *

By the Commission.
Mallory S. Richards,
Attorney-Advisor.

[FR Doc. 2026-04261 Filed 3-3-26; 8:45 am]

BILLING CODE 7710-FW-P